DEPARTMENT OF ENERGY

Federal Energy Regulatory Commission

[Project No. 1744-039]

PacifiCorp; Notice of Draft License Application (DLA) and Draft Preliminary Draft Environmental Assessment (PDEA) and Request for Preliminary Terms a nd Conditions

Take notice that the following Draft License Application (DLA) and draft Preliminary Draft Environmental Assessment (PDEA) have been filed with the Commission and are available for public inspection.

a. Type of Application: Major Constructed Project.

b. Project No.: 1744-039.

c. Date Filed: December 15, 2017.

d. Applicant: PacifiCorp.

e. Name of Project: Weber Hydroelectric Project.

f. Location: On the Weber River, in Weber, Davis, and Morgan Counties, Utah. The project occupies 14.94 acres of United States lands administered by the U.S. Forest Service.

g. Filed Pursuant to: Federal Power Act 16 U.S.C. 791(a)-825(r).

h. Applicant Contact: Eve Davies, PacifiCorp—Renewable Resources, 1407 West North Temple, Suite 210, Salt Lake City, UT 84116; (801) 220-2245; email eve.davies@pacificorp.com.

i. FERC Contact: Evan Williams at (202) 502-8462; or email at evan.williams@ferc.gov.

j. Status of Project: With this notice the Commission is soliciting (1) preliminary terms, conditions, and recommendations on the draft PDEA, and (2) comments on the DLA.

k. Deadline for filing: 90 days from the issuance of this notice.

All comments on the draft PDEA and DLA should be sent to the addresses noted above in Item (h), and filed with FERC.

The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-1744-039.

All comments must bear the heading Preliminary Comments, Preliminary Recommendations, Preliminary Terms and Conditions, or Preliminary Prescriptions.

l. A copy of the application is available for review at the Commission in the Public Reference Room or may be viewed on the Commission's website at http://www.ferc.gov using the eLibrary link. Enter the docket number excluding the last three digits in the docket number field to access the document. For assistance, contact FERC Online Support.

Register online at http://www.ferc.gov/docs-filing/esubscription.asp to be notified via email of new filings and issuances related to this or other pending projects. For assistance, contact FERC Online Support.

PacifiCorp has mailed a copy of the Preliminary DEA and Draft License Application to interested entities and parties. Copies of these documents are available for review at PacifiCorp Hydro Resources, 1407 W. North Temple, Suite 210, Salt Lake City, UT 84116.

m. With this notice, we are initiating consultation with the UTAH STATE HISTORIC PRESERVATION OFFICER (SHPO), as required by section 106, National Historic Preservation Act, and the regulations of the Advisory Council on Historic Preservation, 36 CFR 800.4.

Dated: December 20, 2017.
Kimberly D. Bose,
Secretary.

[FR Doc. 2017-27914 Filed 12-26-17; 8:45 am]

BILLING CODE 6717-01-P